ENVIRONMENTAL PROTECTION AGENCY

[ER-FRL-8993-5]

Environmental Impacts Statements; Notice of Availability

Responsible Agency: Office of Federal Activities, General Information (202) 564-1399 or http://www.epa.gov/compliance/nepa/

Weekly Receipt of Environmental Impact Statements Filed 12/27/2010 Through 12/31/2010 Pursuant to 40 CFR 1506.9.

Notice: In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

EIS No. 20100482, Draft EIS, USACE, MO, Programmatic—Mechanical Creation and Maintenance of Emergent Sandbar Habitat in the Riverine Segments of the Upper Missouri River, To Support Least Tern and Piping Plover Populations, Implementation, MO, Comment Period Ends: 02/22/2011, Contact: Cynthia S. Upah, 402-995-2672. This document is available on the Internet at:

EIS No. 20100483, Final EIS, FHWA, MO, Rex Whitton Expressway Project, To Safely and Reliably Improve Personal and Freight Mobility, Reduce Traffic Congestion, US 50/63 (Rex Whitton Expressway, also Known as Whitton) Facility in Cole County, MO, Wait Period Ends: 02/07/2011, Contact: Peggy Casey, 573-636-7104.

EIS No. 20100484, Draft EIS, USFS, NM, Gila National Forest Travel Management Plan, Implementation, Silver City, NM, Comment Period Ends: 03/07/2011, Contact: Lisa Mizuno, 575-388-8267.

EIS No. 20100485, Final EIS, USFS, CA, Hi-Grouse Project, Proposes to Treat Ponderosa Pine and Mixed Conifer Stands to Improve Long-Term Forest Health and Reduce Fuels within the Goosenest Adaptive Management Area, Goosenest Ranger District, Klamath National Forest, Siskiyou Co, CA, Wait Period Ends: 02/02/2011, Contact: Wendy Coats, 530-841-4470.

Dated: January 4, 2011.
Robert W. Hargrove,
Director, NEPA Compliance Division, Office of Federal Activities.

[FR Doc. 2011-112 Filed 1-6-11; 8:45 am]

BILLING CODE 6560-50-P